DEPARTMENT OF THE INTERIOR

National Park Service

National Register of Historic Places; Notification of Pending Nominations

Nominations for the following properties being considered for listing in the National Register were received by the National Park Service before June 19, 2004. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by July 23, 2004.

Carol D. Shull,
Keeper of the National Register of Historic Places.

CALIFORNIA

Los Angeles County

Whitley Court, 1720-1728 ½ Whitley Ave., Los Angeles, 04000732

Sacramento County

Brown, John Stanford, House, 13950 CA 160, Walnut Grove, 04000733

Santa Cruz County

Redman House, 1635 W. Beach Dr., Watsonville, 04000734

COLORADO

Denver County

Downtown Denver Central YMCA and Annex, 25 E. Sixteenth Ave., Denver, 04000736

Routt County

Summit Creek Ranger Station, Cty Rd. 129, Columbine, 04000735

FLORIDA

Miami-Dade County

Nike Missile Site HM-69, Long Pine Key Rd., Homestead, 04000758

KANSAS

Reno County

Downtown Core North Historic District, (Commercial and Industrial Resources of Hutchinson MPS) Generally bounded by BNSF RR tracks, 1st Ave., W side of N. Main and Polpar St., Hutchinson, 04000739

Downtown Core South Historic District, (Commercial and Industrial Resources of Hutchinson MPS) Generally bounded by C Ave., the alley S of Sherman, Washington and Poplar Sts., Hutchinson, 04000737

Houston Whiteside Historic District, Roughly bounded by BNSF RR tracks, Pershing, Ave. B and Ave. A, Plum and Elm Sts. Hutchinson, 04000738

LOUISIANA

Concordia Parish

Frogmore (16CO9), Address Restricted, Frogmore, 04000740

MAINE

Cumberland County

Pownal Cattle Pound, Hallowell Rd., Bradbury Mountain State Park, 0.7 mi. N of jct with Dyer Rd., Pownal, 04000745

Kennebec County

Colburn House State Historic Site, Arnold Rd., Old ME 27 (0.1 mi. S of jct. with ME 27), Pittston, 04000741

Knox County

Maxcy, Joseph and Hannah, Homestead, 630 S. Union Rd., Union, 04000743

Lincoln County

Jefferson Cattle Pound, 0.75 mi. W of jct. of Gardiner Rd. and ME 213, Jefferson, 04000742

York County

Cummings' Guest House, 110 Portland Ave., Old Orchard Beach, 04000744

MISSOURI

St. Louis Independent City

Guth, Edwin F., Company Complex, 2615 Washington Ave., St. Louis (Independent City), 04000748

Haas Building, 410 N. Jefferson Ave. (and 2327 Locust St.), St. Louis (Independent City), 04000747

Pet Plaza, 400 S. 4th St., St. Louis (Independent City), 04000749

Wrought Iron Range Company Building, 1901-37 Washington Ave., St. Louis (Independent City), 04000746

NEBRASKA

Lancaster County

Herter Farmstead (Boundary Increase), 4949 S. 148th St., Walton, 04000750

NEW YORK

Albany County

Houghtaling, Teunis, House, 1045 Clarksville South Rd., Clarksville, 04000751

Columbia County

Snyderville Schoolhouse, Cty Rd. 8, N side, W of Green Acres Rd., Snyderville, 04000754

New York County

St. Walburga's Academy, 630 Riverside Dr., New York, 04000755

Orange County

McDowell, Thomas, House, 517 Lake Rd., New Windsor, 04000753

St. Lawrence County

Edwards Town Hall, 161 Main St., Edwards, 04000752

Warren County

Glens Falls Cemetery, (Glens Falls MRA) 38 Ogden St., Glens Falls, 04000756

NORTH DAKOTA

Grand Forks County

Grand Forks Near Southside Historic District, Roughly bounded by ND 697, Red River, 13th Ave. and Cottonwood St., Grand Forks, 04000757

PENNSYLVANIA

Union County

Lewisburg Historic District, Roughly bounded by U.S. 15, Beck St., Susquehanna River and Borough boundary, Lewisburg, 04000759

SOUTH CAROLINA

Spartanburg County

Pacolet Mill Office, 180 Montgomery Ave., Pacolet, 04000760

SOUTH DAKOTA

Beadle County

McMonies Barn, 604 33rd St. SE, Huron, 04000762

Grant County

Big Stone City Hall, 469 Main, Big Stone City, 04000764

Gregory County

Gregory Buttes Stone Steps, 11th-14th Sts., 200-300 blks, Gregory, 04000763

Jackson County

Mt. Moriah Masonic Lodge #155, 101 Main St. S, Kadoka, 04000765

Turner County

Parker Masonic Hall, 130 S. Cherry Ave., Parker, 04000761

TENNESSEE

Shelby County

Galloway—Speedway Historic District, (Memphis MPS) N. Parkway, Faxon, Greenlaw, Galloway, and Forrest Aves., Memphis, 04000766

TEXAS

Lubbock County

Carlock Building, 1001-1013 13th St., Lubbock, 04000767

Midland County

Bush, George W., Childhood Home, 1412 W. Ohio, Midland, 04000768

VERMONT

Franklin County

Goodrich, Solomon, Homestead, 4787 Ethan Allen Highway, Georgia, 04000770

Rutland County

Kazon Building, 50 Marble St., West Rutland, 04000769

Windham County

Sabin—Wheat Farm, 346 Westminster Rd., Putney, 04000771

A request for MOVE has been made for the following resource:

TEXAS

Denton County

Rector Road Bridge at Clear Creek (Historic Bridges of Texas MPS) Approx. 2.5 mi. SE of Sanger, Sanger vicinity, 03001418

[FR Doc. 04-15443 Filed 7-7-04; 8:45 am]

BILLING CODE 4312-51-P